DEPARTMENT OF TRANSPORTATION

Federal Motor Carrier Safety Administration

Sunshine Act Meetings; Unified Carrier Registration Plan Board of Directors

AGENCY: Federal Motor Carrier Safety Administration, DOT.

Time and Date: November 7, 2006, 1 p.m. to 5 p.m. and November 8, 2006 8 a.m. to 12 p.m.

Place: Hilton Chicago O'Hare Airport, O'Hare International Airport, Chicago, IL 60666.

Status: Open to the public.

Matters to be Considered: An overview of the Unified Carrier Registration Plan and Agreement requirements set forth under section 4305 of the Safe, Accountable, Flexible, Efficient Transportation Equity Act: A Legacy for Users, and the administrative functioning of the Board. In addition, the Board will continue its work in developing the Unified Carrier Registration Agreement procedures and toward recommending UCRA fees to the Secretary.

FOR FURTHER INFORMATION CONTACT: Mr. William Quade, (202)366-2172, Director, Office of Safety Programs, Federal Motor Carrier Safety Administration, or Mr. Bryan Price, (412) 395-4816, FMCSA Pennsylvania Division Office.

Dated: November 2, 2006.
Rose A. McMurray,
Associate Administrator, Policy and Program Development.

[FR Doc. 06-9124 Filed 11-3-06; 2:23 pm]

BILLING CODE 4910-EX-P